DEPARTMENT OF LABOR

Employment and Training Administration

[TA-W-57,813]

R.J. Reynolds Tobacco Company, Formerly Known as Brown and Williamson Tobacco Company, Macon, GA; Notice of Termination of Investigation

Pursuant to Section 221 of the Trade Act of 1974, an investigation was initiated on August 22, 2005 in response to a petition filed by a company official on behalf of workers at R.J. Reynolds Tobacco Company, formerly known as Brown and Williamson Tobacco Company, Macon Georgia (TA-W-57,813).

The petitioner has requested that the petition be withdrawn. Consequently, further investigation in this case would serve no purpose, and the investigation has been terminated.

Signed in Washington, DC, this 2nd day of September, 2005.
Elliott S. Kushner,
Certifying Officer, Division of Trade Adjustment Assistance.

[FR Doc. E5-5300 Filed 9-27-05; 8:45 am]

BILLING CODE 4510-30-P